DEPARTMENT OF COMMERCE

International Trade Administration

[A-570-067]

Forged Steel Fittings From the People's Republic of China: Preliminary Results of Antidumping Duty Administrative Review, Preliminary Determination of No Shipments; 2020-2021

AGENCY: Enforcement and Compliance, International Trade Administration, Department of Commerce.

SUMMARY: The U.S. Department of Commerce (Commerce) preliminarily determines that Both-Well (Taizhou) Steel Fittings Co., Ltd. (Both-Well), the sole mandatory respondent in this review and an exporter of forged steel fittings from the People's Republic of China (China), as well as four additional exporters of forged steel fittings from China, sold subject merchandise in the United States at prices below normal value (NV) during the period of review (POR) November 1, 2020, through October 31, 2021. Further, Commerce preliminarily determines that Jiangsu Forged Pipe Fittings Co., Ltd. (Jiangsu) had no shipments of subject merchandise during the POR, and 20 companies for which this review was initiated are not eligible for a separate rate and are thus part of the China-wide entity. Interested parties are invited to comment on these preliminary results.

DATES: Applicable December 7, 2022.

FOR FURTHER INFORMATION CONTACT: Jinny Ahn, AD/CVD Operations, Office VIII, Enforcement and Compliance, International Trade Administration, Department of Commerce, 1401 Constitution Avenue NW, Washington, DC 20230; telephone: (202) 482-0339.

SUPPLEMENTARY INFORMATION:

Background

This administrative review is being conducted in accordance with section 751(a) of the Tariff Act of 1930, as amended (the Act). On December 28, 2021, Commerce published the notice of initiation of this administrative review, covering 26 companies.¹ On February 13, 2020, Commerce selected as the sole mandatory respondent, Both-Well (Taizhou) Steel Fittings Co., Ltd. (Both-Well), the company accounting for the largest volume of U.S. entries of subject merchandise into the United States as reported by U.S. Customs and Border Protection (CBP).² On February 18, 2022, Commerce issued the non-market economy (NME) antidumping duty questionnaire to Both-Well.

¹ See Initiation of Antidumping and Countervailing Duty Administrative Reviews, 86 FR 73734 (December 28, 2021) (Initiation Notice).

² See Memorandum, “Respondent Selection,” dated February 17, 2022.

On July 5, 2022, Commerce extended the preliminary results deadline by 120 days.³ For a complete description of the events that followed the initiation of this administrative review, see the Preliminary Decision Memorandum.⁴

³ See Memorandum, “Forged Steel Fittings from the People's Republic of China: Extension of Deadline for Preliminary Results of the Third Antidumping Duty Administrative Review,” dated July 5, 2022.

⁴ See Memorandum, “Decision Memorandum for the Preliminary Results of Antidumping Duty Administrative Review: Forged Steel Fittings from the People's Republic of China; 2020-2021,” dated concurrently with, and hereby adopted by, this notice (Preliminary Decision Memorandum).

Scope of the Order ⁵

⁵ See Forged Steel Fittings from Italy and the People's Republic of China: Antidumping Duty Orders, 83 FR 60397 (November 26, 2018) (Order).

The merchandise covered by the Order is carbon and alloy forged steel fittings, whether unfinished (commonly known as blanks or rough forgings) or finished. For a complete description of the scope of the Order, see the Preliminary Decision Memorandum.

Methodology

Commerce is conducting this review in accordance with section 751(a)(1)(B) of the Act and 19 CFR 351.213. We calculated export prices in accordance with section 772 of the Act. Because China is an NME country within the meaning of section 771(18) of the Act, NV has been calculated in accordance with section 773(c) of the Act.

For a full description of the methodology underlying our conclusions, see the Preliminary Decision Memorandum. A list of the topics included in the Preliminary Decision Memorandum is included in Appendix I to this notice. The Preliminary Decision Memorandum is a public document and is made available to the public via Enforcement and Compliance's Antidumping and Countervailing Duty Centralized Electronic Service System (ACCESS). ACCESS is available to registered users at https://access.trade.gov. In addition, a complete version of the Preliminary Decision Memorandum can be accessed directly at https://access.trade.gov/public/FRNoticesListLayout.aspx.

Continuation of Administrative Review for Various Companies

Pursuant to 19 CFR 351.213(d)(1), Commerce will rescind an administrative review, in whole or in part, if a party who requested the review withdraws the request within 90 days of the date of publication of the notice of initiation of the requested review. On March 28, 2022, Jiangsu, Lianfa Stainless Steel Pipes & Valves (Qingyun) Co., Ltd. (Lianfa); Xin Yi International Trade Co., Limited (Xin Yi); and Yingkou Guangming Pipeline Industry Co., Ltd. (Yingkou Guangming) timely withdrew their requests for review.⁶ However, because there is still an active review request for these four companies,⁷ we are not rescinding this review with respect to these four companies, pursuant to 19 CFR 351.213(d)(1).

⁶ See Jiangsu, Lianfa, Xin Yi, and Yingkou Guangming's Letter, “Withdrawal of Requests for Administrative Review,” dated March 28, 2022.

⁷ See Petitioner's Letter, “Request for Administrative Review,” dated November 30, 2021.

Preliminary Determination of No Shipments

Jiangsu reported that it made no shipments of subject merchandise to the United States during the POR.⁸ To confirm this no-shipment claim, Commerce issued a no-shipment inquiry to CBP requesting that it review Jiangsu's no-shipment claim.⁹ CBP reported that it did not have information to contradict Jiangsu's no-shipment claim.¹⁰ Because Jiangsu certified that it made no shipments of subject merchandise, and there is no information which contradicts its claim, Commerce preliminarily determines that Jiangsu did not have shipments of subject merchandise to the United States during the POR. Consistent with Commerce's practice, Commerce will not rescind the review with respect to this company, but, instead, will complete the review and issue assessment instructions to CBP based on the final results.¹¹

⁸ See Jiangsu's Letter, “No Sales Certification,” dated January 24, 2022.

⁹ See Message Number 2181402, “No Shipments Inquiry for Forged Steel Fittings from the People's Republic of China Exported by Jiangsu Forged Pipe Fittings Co., Ltd. (A-570-067),” dated June 30, 2022.

¹⁰ See Memorandum, “No Shipment Inquiry for Jiangsu Forged Pipe Fittings Co., Ltd. during the Period 11/01/2020 through 10/31/2021,” dated July 25, 2022.

¹¹ See, e.g., Certain Frozen Warmwater Shrimp from Thailand; Preliminary Results of Antidumping Duty Administrative Review, Partial Rescission of Review, Preliminary Determination of No Shipments; 2012-2013, 79 FR 15951, 15952 (March 24, 2014), unchanged in Certain Frozen Warmwater Shrimp from Thailand: Final Results of Antidumping Duty Administrative Review, Final Determination of No Shipments, and Partial Rescission of Review; 2012-2013, 79 FR at 51306 (August 28, 2014).

Separate Rates

Commerce preliminarily finds that 20 companies for which a review was initiated did not establish their eligibility for a separate rate because they failed to provide a separate rate application, a separate rate certification, or a no-shipment certification if they were already eligible for a separate rate.¹² As such, we preliminarily determine these 20 companies are part of the China-wide entity.

¹² See Appendix II of this notice which identifies these 20 companies.

Additionally, Commerce preliminarily finds that the information placed on the record by four companies in addition to Both-Well demonstrates that these companies are eligible for a separate rate. These four companies are: Lianfa; Qingdao Bestflow Industrial Co., Ltd.; Xin Yi; and Yingkou Guangming. For additional information, see the Preliminary Decision Memorandum.

Weighted-Average Dumping Margin for Non-Examined Companies Granted a Separate Rate

In these preliminary results, the sole mandatory respondent (i.e., Both-Well) has received a weighted-average dumping margin that is not zero, de minimis, or based entirely on facts available. Therefore, in accordance with section 735(c)(5)(A) of the Act, we find it appropriate to assign the calculated weighted-average dumping margin for Both-Well (i.e., 29.31 percent) as the weighted-average dumping margin for the non-examined, separate rate respondents. For additional information, see the Preliminary Decision Memorandum.

The China-Wide Entity

Commerce's policy regarding conditional review of the China-wide entity applies to this administrative review.¹³ Under this policy, the China-wide entity will not be under review unless a party specifically requests and Commerce initiates, or Commerce self-initiates, a review of the China-wide entity.¹⁴ Because no party requested a review of the China-wide entity and no review was initiated for this POR, the China-wide entity is not under review and the China-wide entity's rate (i.e., 142.72 percent) is not subject to change.¹⁵ For additional information, see the Preliminary Decision Memorandum.

¹³ See Antidumping Proceedings: Announcement of Change in Department Practice for Respondent Selection in Antidumping Proceedings and Conditional Review of the Nonmarket Economy Entity in NME Antidumping Duty Proceedings, 78 FR 65963 (November 4, 2013).

¹⁴ Id.

¹⁵ See Order, 83 FR 60397.

Preliminary Results of Review

Commerce preliminarily determines that the following weighted-average dumping margins exist for the POR:

Exporter | Weighted- average dumping margin (percent)
Both-Well (Taizhou) Steel Fittings Co., Ltd | 29.31
Review-Specific Rate Applicable to the Following Companies
Lianfa Stainless Steel Pipes & Valves (Qingyun) Co., Ltd | 29.31
Qingdao Bestflow Industrial Co., Ltd | 29.31
Xin Yi International Trade Co., Limited | 29.31
Yingkou Guangming Pipeline Industry Co., Ltd | 29.31

Disclosure and Public Comment

Commerce intends to disclose the calculations performed for these preliminary results to the parties under administrative protective order within five days of the date of publication of this notice in accordance with 19 CFR 351.224(b).

Pursuant to 19 CFR 351.309(c)(ii), interested parties may each submit a case brief no later than 30 days after the date of publication of this notice. Rebuttal briefs, limited to issues raised in the case briefs, may be filed no later than seven days after the case briefs are filed.¹⁶ Parties who submit a case brief or a rebuttal brief in this proceeding are encouraged to submit with each argument: (1) a statement of the issue; (2) a brief summary of the argument; and (3) a table of authorities.

¹⁶ See 19 CFR 351.309(d); see also Temporary Rule Modifying AD/CVD Service Requirements Due to COVID-19, 85 FR 17006 (March 26, 2020) (“To provide adequate time for release of case briefs via ACCESS, E&C intends to schedule the due date for all rebuttal briefs to be 7 days after case briefs are filed (while these modifications are in effect).”).

Pursuant to 19 CFR 351.310(c), interested parties who wish to request a hearing must submit a written request to the Assistant Secretary for Enforcement and Compliance within 30 days of the date of publication of this notice. Requests should contain: (1) the party's name, address and telephone number; (2) the number of participants; (3) whether any participant is a foreign national; and (4) a list of issues parties intend to discuss. Issues raised in the hearing will be limited to those raised in the respective case and rebuttal briefs.¹⁷ If a request for a hearing is made, Commerce will announce the date and time of the hearing.

¹⁷ See 19 CFR 351.310(c).

All submissions to Commerce must be filed electronically using Enforcement and Compliance's electronic records system, ACCESS,¹⁸ and must also be served on interested parties.¹⁹ An electronically filed document must be received successfully in its entirety by ACCESS, by 5 p.m. Eastern Time (ET) on the date that the document is due. Note that Commerce has temporarily modified certain of its requirements for serving documents containing business proprietary information, until further notice.²⁰

¹⁸ See 19 CFR 351.303.

¹⁹ See 19 CFR 351.303(f).

²⁰ See Temporary Rule Modifying AD/CVD Service Requirements Due to COVID-19, 85 FR 41363 (July 10, 2020).

Unless otherwise extended, Commerce intends to issue the final results of this administrative review, which will include the results of its analysis of issues raised in any briefs, within 120 days of publication of these preliminary results, pursuant to section 751(a)(3)(A) of the Act.

Assessment Rates

In accordance with section 751(a)(2)(C) of the Act, the final results of this review shall be the basis for the assessment of antidumping duties on entries of merchandise covered by this review. Upon issuance of the final results, Commerce will determine, and CBP shall assess, antidumping duties on all appropriate entries covered by this review.²¹ Commerce intends to issue assessment instructions to CBP no earlier than 35 days after the date of publication of the final results of this review. If a timely summons is filed at the U.S. Court of International Trade, the assessment instructions will direct CBP not to liquidate relevant entries until the time for parties to file a request for a statutory injunction has expired (i.e., within 90 days of publication).

²¹ See 19 CFR 351.212(b)(1).

We will instruct CBP to assess antidumping duties on all appropriate entries covered by this review, when the company-specific weighted-average dumping margin is not zero or de minimis (i.e., less than 0.50 percent), and, for Both-Well, when the importer-specific assessment rate calculated in the final results of this review is not zero or de minimis. Where either a company's weighted-average dumping margin is zero or de minimis, or an importer-specific assessment rate is zero or de minimis,²² we will instruct CBP to liquidate the appropriate entries without regard to antidumping duties. If Both-Well's weighted-average dumping margin is not zero or de minimis in the final results of this review, Commerce will instruct CBP to collect the appropriate antidumping duties at the time of liquidation, in accordance with 19 CFR 351.212(b)(1).²³ We intend to calculate importer-specific ad valorem assessment rates by dividing the total amount of dumping calculated for all reviewed U.S. sales to the importer by the total entered value of the merchandise sold to the importer by Both-Well.²⁴

²² See 19 CFR 351.106(c)(2).

²³ Commerce will apply the assessment rate calculation method adopted in Antidumping Proceedings: Calculation of the Weighted-Average Dumping Margin and Assessment Rate in Certain Antidumping Proceedings: Final Modification, 77 FR 8101 (February 14, 2012).

²⁴ See 19 CFR 351.212(b)(1).

For the respondents that were not selected for individual examination in this administrative review but qualified for a separate rate, the assessment rate will be equal to the weighted-average dumping margin determined in the final results of this review.

For the final results, if we continue to find that the 20 companies, identified in Appendix II, are ineligible for a separate rate and are, therefore, considered part of the China-wide entity, we will instruct CBP to apply an antidumping duty assessment rate of 142.72 percent (i.e., the rate for the China-wide entity) to all entries of subject merchandise during the POR which were exported by those companies.

For entries that were not reported in the U.S. sales data submitted by Both-Well during this review, Commerce will instruct CBP to liquidate such entries at the antidumping duty assessment rate for the China-wide entity.²⁵ Additionally, if Commerce determines in the final results that Jiangsu had no shipments of the subject merchandise, any suspended entries that entered under Jiangsu's case number (i.e., at Jiangsu's cash deposit rate) will be liquidated at the antidumping duty assessment rate for the China-wide entity.

²⁵ See Non-Market Economy Antidumping Proceedings: Assessment of Antidumping Duties, 76 FR 65694 at 65694-65695, for a full discussion of this practice.

Cash Deposit Requirements

The following cash deposit requirements will be effective upon publication of the final results of this administrative review for shipments of the subject merchandise from China entered, or withdrawn from warehouse, for consumption on or after the publication date, as provided by section 751(a)(2)(C) of the Act: (1) for companies listed above that have a separate rate, the cash deposit rate will be equal to the weighted-average dumping margin established in the final results of this review (except, if the rate is de minimis, then the cash deposit rate will be zero); (2) for previously examined Chinese and non-Chinese exporters not listed above that received a separate rate in a prior completed segment of this proceeding, the cash deposit rate will continue to be the existing exporter-specific cash deposit rate; (3) for all Chinese exporters of subject merchandise that have not been found to be entitled to a separate rate, the cash deposit rate will be the rate for the China-wide entity (i.e., 142.72 percent); and (4) for all non-Chinese exporters of subject merchandise which have not received their own separate rate, the cash deposit rate will be the rate applicable to the Chinese exporter that supplied that non-Chinese exporter.

These cash deposit requirements, when imposed, shall remain in effect until further notice.

Notification to Importers

This notice also serves as a preliminary reminder to importers of their responsibility under 19 CFR 351.402(f)(2) to file a certificate regarding the reimbursement of antidumping and/or countervailing duties prior to liquidation of the relevant entries during this POR. Failure to comply with this requirement could result in Commerce's presumption that reimbursement of antidumping and/or countervailing duties occurred and the subsequent assessment of double antidumping duties, and/or an increase in the amount of antidumping duties by the amount of the countervailing duties.

Notification to Interested Parties

This administrative review and notice are issued and published in accordance with sections 751(a)(1) and 777(i)(1) of the Act, 19 CFR 351.213, and 19 CFR 351.221(b)(4).

Dated: November 30, 2022.
Lisa W. Wang,
Assistant Secretary for Enforcement and Compliance.

Appendix I—List of Topics Discussed in the Preliminary Decision Memorandum

I. Summary

II. Background

III. Scope of the Order

IV. Discussion of the Methodology

V. Recommendation

Appendix II—Companies Preliminarily Not Eligible for a Separate Rate and Treated as Part of the China-Wide Entity

1. Cixi Baicheng Hardware Tools, Ltd.

2. Dalian Guangming Pipe Fittings Co., Ltd.

3. Eaton Hydraulics (Luzhou) Co., Ltd.

4. Eaton Hydraulics (Ningbo) Co., Ltd.

5. Jiangsu Haida Pipe Fittings Group Co.

6. Jinan Mech Piping Technology Co., Ltd.

7. Jining Dingguan Precision Parts Manufacturing Co., Ltd.

8. Luzhou City Chengrun Mechanics Co., Ltd.

9. Ningbo HongTe Industrial Co., Ltd.

10. Ningbo Long Teng Metal Manufacturing Co., Ltd.

11. Ningbo Save Technology Co., Ltd.

12. Ningbo Zhongan Forging Co., Ltd.

13. Q.C. Witness International Co., Ltd.

14. Shanghai Lon Au Stainless Steel Materials Co., Ltd.

15. Witness International Co., Ltd.

16. Yancheng Boyue Tube Co., Ltd.

17. Yancheng Haohui Pipe Fittings Co., Ltd.

18. Yancheng Jiuwei Pipe Fittings Co., Ltd.

19. Yancheng Manda Pipe Industry Co., Ltd.

20. Yuyao Wanlei Pipe Fitting Manufacturing Co., Ltd.

[FR Doc. 2022-26557 Filed 12-6-22; 8:45 am]

BILLING CODE 3510-DS-P